ENVIRONMENTAL PROTECTION AGENCY

[FRL-7479-6]

Peer-Review Workshop on the Environmental Effects of Ozone and Related Photochemical Oxidants

AGENCY: Environmental Protection Agency.

ACTION: Notice of peer-review workshop and public meeting.

SUMMARY: The U.S. Environmental Protection Agency (EPA) is announcing a peer review workshop to facilitate preparation of the Environmental Effects Chapter to be included in a revised version of the EPA document Air Quality Criteria for Ozone and Related Photochemical Oxidants (Ozone Criteria Document, EPA 600/P-93/004aF-cF). Draft sections for this chapter, prepared (with the assistance of qualified scientists under contract) by the EPA's National Center for Environmental Assessment-Research Triangle Park Division (NCEA-RTP) within EPA's Office of Research and Development, will be reviewed at the Workshop. NCEA will then consider the peer-review advice in revising the sections and incorporating them into the overall Environmental Effects Chapter of the First External Review Draft Ozone Criteria Document to be released later for public comment.

DATES: The peer-review workshop will begin on Tuesday, April 22, 2003, at 9 a.m., and end on Wednesday, April 23, 2003, at 5 p.m. Members of the public are invited to attend as observers.

ADDRESSES: The peer-review workshop will be held at the Sheraton Imperial Hotel, 4700 Emperor Boulevard, Durham, North Carolina 27703. Sleeping room reservations may be made at 919-541-5050. Logistics for the workshop are being arranged by Science Applications International Corporation (SAIC), an EPA contractor. To attend the workshop, register by Monday, April 21, 2003, by calling SAIC at 703-318-4678 or by sending a facsimile to 703-736-0826. You can also register in advance via e-mail at tcs-events@saic.com. Space is limited, and reservations will be accepted on a first-come, first-served basis. On-site registration on April 22 and 23 will also be available, as space allows.

FOR FURTHER INFORMATION CONTACT: For workshop information and logistics, contact SAIC at: telephone: 703-318-4678; facsimile: 703-736-0826. For technical information, contact Dr. Robert W. Elias, U.S. EPA, NCEA-RTP, B243-01, Research Triangle Park, NC 27711; telephone: 919-541-4167; facsimile: 919-541-1818; or e-mail: elias.robert@epa.gov.

SUPPLEMENTARY INFORMATION: As discussed in a previous call for information (65 FR 57810, September 26, 2000), EPA is undertaking to review and, where appropriate, update and revise the Ozone Criteria Document last issued in July 1996. Pursuant to section 109 of the Clean Air Act, 42 U.S.C. 740, EPA periodically reviews, and when appropriate, updates and revises, the air quality criteria for ozone published under Section 108 of the Act, 42 U.S.C. 7408. EPA then considers these air quality criteria when it periodically reviews the National Ambient Air Quality Standards (“NAAQS”) for ozone. See 42 U.S.C. 7409(d). As part of the review of the air quality criteria for ozone, a series of peer-review workshops will be convened to discuss draft sections and chapters for the revised Ozone Criteria Document. Preliminary outlines for the proposed chapters were presented in the draft Project Work Plan released for public comment (66 FR 67524, December 31, 2001) and for review by the Clean Air Scientific Advisory Committee (CASAC) of EPA's Science Advisory Board (68 FR 3527, January 24, 2003). The first workshop (to be held April 22-23, 2003) will cover draft sections on the environmental effects of ozone, followed at a later date by workshops on tropospheric ozone formation, concentrations, exposure aspects, and health effects. Copies of the draft materials will be made available to the public at the workshops. Peer-review comments and workshop discussions will be taken into account in revising the draft sections and chapters in preparation for release to the public as part of the First External Review Draft of the Ozone Criteria Document. Ample opportunity will be provided at that time for public review and submission of written comments.

Interested parties are invited to assist the EPA in further developing and refining the scientific information base by identifying and submitting pertinent new information on potential health and environmental effects of ozone. In order to be considered for possible inclusion in the criteria document, submitted information should be published or be accepted for publication in a peer-reviewed scientific journal. Such information should be provided to Dr. Robert W. Elias via the above-noted contact information.

Dated: April 3, 2003.
Peter W. Preuss,
Director, National Center for Environmental Assessment.

[FR Doc. 03-8660 Filed 4-8-03; 8:45 am]

BILLING CODE 6560-50-P